DEPARTMENT OF COMMERCE

International Trade Administration

Purdue University, et al., Notice of Consolidated Decision on Applications, for Duty-Free Entry of Scientific Instruments

This is a decision consolidated pursuant to Section 6(c) of the Educational, Scientific, and Cultural Materials Importation Act of 1966 (Pub. L. 89-651, 80 Stat. 897; 15 CFR part 301). Related records can be viewed between 8:30 a.m. and 5 p.m. in Room 2104, U.S. Department of Commerce, 14th and Penn. Ave., NW, Washington, DC.

Comments: None received. Decision: Approved. We know of no instrument of equivalent scientific value to the foreign instruments described below, for such purposes as each is intended to be used, which was being manufactured in the United States at the time of its order.

Docket Number: 06-054. Applicant: Purdue University, West Lafayette, IN. Instrument: DBF Fiber Laser System. Manufacturer: Koheras A/S, Denmark. Intended Use: See notice at 72 FR 20505, April 25, 2007. Reasons: The foreign instrument provides a means to describe and formulate the physical description of the fundamental noise properties of optical frequency combs and their application to Optical Arbitrary Waveform Generation. An ultra-narrow (1.0 kHz optical linewidth) CW laser is used to sweep the carrier frequency and beat it with a conventional mode-locked laser based optical frequency comb. The CW laser also provides a 60 pm fast piezo tuning range and 700 pm thermal tuning with 100 mW output power.

Docket Number: 06-059. Applicant: Rutgers University, New Brunswick, NJ. Instrument: Micro-dissecting Microscope. Manufacturer: Singer Instruments, UK. Intended Use: See notice at 72 FR 20505, April 25, 2007. Reasons: The foreign instrument provides capability to identify and categorize genes that control DNA replication and repair using a simple model organism known as baker's yeast. It is a unique motorized micromanipulator specifically designed to separate single aspo-spores of yeast. It provides automatic micro-dissection and can “memorize” the locations of each ascus so that it can shuttle between positions automatically.

Docket Number: 06-067. Applicant: The University of Illinois, Champaign, IL. Instrument: Ti: Sapphire Lasers (2), Model TIS SF-077s. Manufacturer: Tekhnoscan, Russia. Intended Use: See notice at 72 FR 20505, April 25, 2007. Reasons: The foreign instrument provides a means of studying the application of ultra-cold atom gases to quantum simulation. The lasers will be used to create an optical lattice, and part of a system for driving stimulated Raman transitions. One laser provides a linewidth less than 100 kHz and a drift rate < 50 MHz/hour, locked to an external reference cavity. The other provides < 5 MHz linewidth (without an external reference cavity) but passive stability equal to the other. Both are completely reconfigurable to the point of removing all optical elements from the cavity, running the cavity in a linear configuration, and inserting an electro-optic modulator. They employ phase-locking optics and electronics with low drift rates, since they will not be locked to a spectroscopic reference.

Docket Number: 07-005. Applicant: Millersville University Physics Department, Millersville PA. Instrument: HeNe Laser Cavity Educational Kit, Model CA-1200. Manufacturer: MICOS GmbH, Germany. Intended Use: See notice at 72 FR 20505, April 25, 2007. Reasons: The foreign instrument provides a test bench in the lab portion of a course on optics for instruction in the physical principles and the components of a laser. Students will use the kit to build and reconfigure a He-NE Laser themselves and study the role of different optical elements in the lasing effect. Lab studies will include intensity distribution, Gaussian beam, polarization, divergence, coherence monochromatism and other properties of light.

Docket Number: 07-007. Applicant: Illinois Institute of Technology, Chicago, IL. Instrument: High Temperature Nano Test System. Manufacturer: Micro Materials, Ltd., UK. Intended Use: See notice at 72 FR 20505, April 25, 2007. Reasons: The foreign instrument provides examination of the mechanical properties of Ni-base alloys at elevated temperature. Nano-indentation tests can be conducted on specimens at a range of temperatures from room temperature to 750 C to assess the hardness and modulus of Ni-base alloys an also the constituent phases present in experimental Ni-base alloys and new high temperature materials. The instrument employs a unique horizontally designed pendulum indenter which enables insertion of a high temperature heating stage and tip heater as well as a protective heat shield to allow testing of specimens at temperatures in excess of 750 C. Other systems which use a vertical pendulum are currently limited to 400 C.

Docket Number: 07-011. Applicant: State University of New York, Stony Brook University, Stony Brook, NY 11794. Instrument: Low-level Beta Multicounter System. Manufacturer: Riso National Laboratory, Denmark. Intended Use: See notice at 72 FR 20505, April 25, 2007. Reasons: The foreign instrument provides measurement of emissions from very small quantities of naturally occurring, dissolved radioactive isotopes of thorium and lead in seawater which are attached to particulate matter in very small quantities. Samples of the isotopes are taken at various depths and serve as tracers of the movement of carbon to the deep, an important process for understanding climate change. The instrument is the only beta detector that meets the requirements of five simultaneous measurements with extremely low background count rates of 0.2 cpm. It is also portable and capable of field use in harsh environments. It also able to hold 22 mm diameter filter holders and is in standard use by many low level radiation laboratories around the world.

Docket Number: 07-012. Applicant: University of Wisconsin, Madison, WI. Instrument: Real-time 3D Motion Capture System. Manufacturer: Phoenix Technologies, Inc., Canada. Intended Use: See notice at 72 FR 20505, April 25, 2007. Reasons: The foreign instrument provides accurate measurement of limb movements of monkey subjects performing reach-to-grasp tasks. Electrical signals derived from individual brain cells are correlated with parameters of movement in order to determine how information is encoded in the signals that the brain uses to communicate with the muscles which is relevant to neuro-prosthetics, spinal chord injury, stroke and motor rehabilitation. The dimensions of the testing chamber require that the infrared position markers can operate at a minimum distance of 0.6 m. Other comparable systems require more than twice that distance. The Phoenix system also uses markers of much less diameter, which minimally interfere with natural limb movement.

The capabilities of each of the foreign instruments described above are pertinent to each applicants intended purpose and we know of no other instrument or apparatus being manufactured in the United States which is of equivalent scientific value to any of the foreign instruments.

Faye Robinson,
Director, Statutory Import Program Staff, Import Administration.

[FR Doc. E7-9921 Filed 5-22-07; 8:45 am]

BILLING CODE 3510-DS-P